ENVIRONMENTAL PROTECTION AGENCY

40 CFR Part 52

[EPA-R03-OAR-2007-1120; FRL-8554-7]

Approval and Promulgation of Air Quality Implementation Plans; Maryland; Reasonably Available Control Technology Requirements for Marine Vessel and Barge Loading

AGENCY: Environmental Protection Agency (EPA).

ACTION: Proposed rule.

SUMMARY: EPA is proposing to approve a State Implementation Plan (SIP) revision submitted by the Maryland Department of Environment. The revision pertains to the control of volatile organic compound (VOC) emissions by establishing reasonable available control technology (RACT) requirements for marine vessel and barge loading. EPA is proposing to approve the revision to the Maryland SIP in accordance with the Clean Air Act (CAA).

DATES: Written comments must be received on or before May 15, 2008.

ADDRESSES: Submit your comments, identified by Docket ID Number EPA-R03-OAR-2007-1120 by one of the following methods:

A. www.regulations.gov. Follow the on-line instructions for submitting comments.

B. E-mail: fernandez.cristina@epa.gov.

C. Mail: EPA-R03-OAR-2007-1120, Cristina Fernandez, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2007-1120. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Gobeail McKinley, (215) 814-2033, or by e-mail at mckinley.gobeail@epa.gov.

SUPPLEMENTARY INFORMATION: On October 24, 2007, the Maryland Department of Environment (MDE) submitted a revision to its SIP to establish RACT requirements for marine vessel and barge loading. The SIP revision (Maryland SIP #07-12) consists of amendments to Regulation .01 and adoption of new Regulation .08 under COMAR 26.11.13—Control of Gasoline and Volatile Organic Compound Storage and Handling.

I. Background

This SIP revision was submitted pursuant to the reasonable available control technology requirements of sections 182 and 184 of the Clean Air Act. RACT is the lowest emission limit that a particular source is capable of meeting by the application of the control technology that is reasonably available considering technological and economic feasibility. Maryland is located in the Ozone Transport Region (OTR) that was statutorily created by section 184 of the CAA.

Section 184(b)(1)(B) of the CAA requires States to implement RACT regulations on all VOC sources that have the potential to emit 50 tons per year (TPY) or more. In addition, section 182(b)(2) requires States to implement RACT regulations on all “major” sources of VOC in moderate or above ozone nonattainment areas. Major VOC sources are those with the potential to emit at least 100 TPY in moderate areas, 50 TPY in serious areas, and 25 TPY in severe areas.

Maryland is in the OTR and the State is required to implement RACT regulations for all sources with the potential to emit 50 TPY or more, throughout the State. In Maryland's severe ozone nonattainment areas, RACT is required for all VOC sources with the potential to emit 25 TPY or more.

The amendment to Regulation .01 and adoption of new Regulation .08 under COMAR 26.11.13 control emissions of volatile organic compounds throughout the state. MDE submitted this SIP revision request pursuant to the reasonable available control technology requirements of sections 182 and 184 of the Clean Air Act. Although the EPA has developed a maximum achievable control technology standard for barge loading (40 CFR Part 63 Subpart Y), the liquid throughput threshold requiring controls is very high. For this reason, MDE has adopted RACT requirements for marine vessel and barge loading.

A marine vessel is defined as any tank ship or barge that transports VOCs in bulk as cargo. Marine tank vessel loading operations are facilities that load and unload liquid commodities in bulk. Due to the increased demand for ethanol which is blended with gasoline, there is a renewed interest in transferring liquid products from stationary storage tanks into marine vessels or barges for further distribution. During marine tank vessel and barge loading operations, emissions result as the liquid that is being loaded into the vessel displaces vapors from the vessel's tank. VOC vapors are released from the vent of the barge in quantities that may be significant and contribute to ground level ozone. Maryland has decided to revise their RACT requirements to include marine vessel and barge loading.

II. Summary of SIP Revision

The Maryland Department of the Environment is requesting a revision to the state's SIP to establish reasonable available control technology requirements for marine vessel and barging loading. The amendment to COMAR 26.11.13.01 consist of a new definition that defines a marine vessel as any tank ship or barge that transports VOCs in bulk as cargo. The new regulation COMAR 26.11.13.08 requires owners or operators of barge loading facilities in Baltimore City or Anne Arundel, Baltimore, Calvert, Carroll, Cecil, Charles, Frederick, Harford, Howard, Montgomery, and Prince George's Counties to reduce capture of VOC vapors by 90 percent if emissions from the barge loading equal or exceed 25 TPY. In the rest of the state (Allegheny, Caroline, Dorchester, Garrett, Kent, Queen Anne's, St. Mary's, Somerset, Talbot, Washington, Wicomico, and Worchester Counties), controls are required if emissions are equal to or exceed 50 TPY.

III. Proposed Action

EPA is proposing to approve the Maryland SIP revision for the establishment of RACT requirements to control VOC emissions from marine vessel and barging loading, which the state submitted on October 24, 2007. EPA is soliciting public comments on the issues discussed in this document. These comments will be considered before taking final action.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed rule to approve Maryland's amendments to the control of volatile organic compound emissions by establishing reasonable available control technology requirements for marine vessel and barge loading does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Ozone, Reporting and recordkeeping requirements, Volatile organic compounds.

Authority: 42 U.S.C. 7401 et seq.

Dated: April 9, 2008.
Donald S. Welsh,
Regional Administrator, Region III.

[FR Doc. E8-8005 Filed 4-14-08; 8:45 am]

BILLING CODE 6560-50-P